ENVIRONMENTAL PROTECTION AGENCY

40 CFR Part 300

[EPA-HQ-SFUND-1994-0009; FRL-9998-94-Region 1]

National Oil and Hazardous Substances Pollution Contingency Plan; National Priorities List: Partial Deletion of the U.S. Coast Guard (USCG) Buoy Depot of the South Weymouth Naval Air Station Superfund Site

AGENCY: Environmental Protection Agency (EPA).

ACTION: Final rule.

SUMMARY: The Environmental Protection Agency (EPA) Region 1 announces the deletion of the U.S. Coast Guard (USCG) Buoy Depot of the South Weymouth Naval Air Station (NAS) Superfund Site (Site) located in Weymouth, MA, from the National Priorities List (NPL). The NPL, promulgated pursuant to section 105 of the Comprehensive Environmental Response, Compensation, and Liability Act (CERCLA) of 1980, as amended, is an appendix of the National Oil and Hazardous Substances Pollution Contingency Plan (NCP). This partial deletion pertains to the soil and groundwater at the USCG Buoy Depot (Operable Unit #10). The remaining operable units at South Weymouth NAS will remain on the NPL and are not considered for deletion as part of this action. The EPA and the Commonwealth of Massachusetts, through the Massachusetts Department of Environmental Protection (MassDEP), have determined that all appropriate response actions under CERCLA have been completed. However, the deletion of this parcel does not preclude future actions under Superfund.

DATES: This action is effective August 30, 2019.

ADDRESSES: EPA has established a docket for this action under Docket Identification No. EPA-HQ-SFUND-1994-0009. All documents in the docket are listed on the http://www.regulations.gov website. Although listed in the index, some information is not publicly available, i.e., Confidential Business Information or other information whose disclosure is restricted by statute. Certain other material, such as copyrighted material, is not placed on the internet and will be publicly available only in hard copy form. Publicly available docket materials are available either electronically through http://www.regulations.gov or in hard copy at the site information repositories. Locations, contacts, phone numbers and viewing hours are:

a. EPA Region 1 Records Center, 5 Post Office Square, Suite 100, 1st Floor, Boston, MA 02109, Phone: 1-617-918-1440. Hours: Mon-Fri 8 a.m. to 5 p.m., excluding federal holidays

b. Navy Caretaker Site Office, 223 Shea Memorial Drive, South Weymouth, MA 02190 (Records may be viewed by appointment only. Contact Mr. David Barney at 781-626-0105 or David.a.barney@navy.mil to schedule an appointment.)

FOR FURTHER INFORMATION CONTACT: Robert Lim, Remedial Project Manager, U.S. Environmental Protection Agency, Region 1, Five Post Office Square (Mailcode: 07-3), Boston, MA 02109, (617) 918-1392, email: lim.robert@epa.gov.

SUPPLEMENTARY INFORMATION:

The portion of the site to be deleted from the NPL is:

4.77 acres of property owned by the United States of America (United States Coast Guard) described in Quitclaim Deed dated October 30, 1941 and recorded in book 6561, Page 513, also identified as Lot 650-1 in Tax Map 58. Approximately 0.20 acres of property owned by the United States of America (United States Navy) described in Quitclaim Deed dated January 1, 1900, also identified as Plat 597-152 in Tax Map 58. Approximately 0.04 acres of property owned by LSTAR Southfield, LLC, described in Quitclaim Deed dated July 2, 2015 and recorded in book 33279, Page 51, also identified as Plat 597-138 in Tax Map 58. Approximately 0.11 acres of property owned by LSTAR Southfield, LLC, described in Quitclaim Deed dated July 2, 2015 and recorded in book 33279, Page 51, also identified as Plat 597-137 in Tax Map 58.

of the South Weymouth Naval Air Station, Weymouth, MA. A Notice of Intent for Partial Deletion for the USCG Buoy Depot was published in the Federal Register (84 FR 31281) on July 1, 2019.

The closing date for comments on the Notice of Intent for Partial Deletion was July 31, 2019. No public comments were received.

EPA maintains the NPL as the list of sites that appear to present a significant risk to public health, welfare, or the environment. Deletion of a site from the NPL does not preclude further remedial action. Whenever there is a significant release from a site deleted from the NPL, the deleted site may be restored to the NPL without application of the hazard ranking system. Deletion of portions of a site from the NPL does not affect responsible party liability, in the unlikely event that future conditions warrant further actions.

List of Subjects in 40 CFR Part 300

Environmental protection, Air pollution control, Chemicals, Hazardous waste, Hazardous substances, Intergovernmental relations, Penalties, Reporting and recordkeeping requirements, Superfund, Water pollution control, Water supply.

Dated: August 12, 2019.
Deborah A. Szaro,
Acting Regional Administrator, Region 1.

For reasons set out in the preamble, 40 CFR part 300 is amended as follows:

PART 300—NATIONAL OIL AND HAZARDOUS SUBSTANCES POLLUTION CONTINGENCY PLAN

1. The authority citation for part 300 continues to read as follows:

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

2. Table 2 of Appendix B to part 300 is amended by revising the entry for “MA, South Weymouth Naval Air Station” to read as follows:

Appendix B to Part 300—National Priorities List

Table 2—Federal Facilities Section
State | Site name | City/County | Notes (a)
* * * * * * *
MA | South Weymouth Naval Air Station | Weymouth | P
* * * * * * *
* * * * * * *
Notes:
(a) A = Based on issuance of health advisory by Agency for Toxic Substances and Disease Registry (if scored, HRS score need not be greater than or equal to 28.50).
* * * * * * *
P = Sites with partial deletion(s).

[FR Doc. 2019-18600 Filed 8-29-19; 8:45 am]

BILLING CODE 6560-50-P